DEPARTMENT OF DEFENSE

Department of the Army; Corps of Engineers

Chief of Engineers Environmental Advisory Board

AGENCY: Army Corps of Engineers, DoD.

ACTION: Notice of open meeting.

SUMMARY: In accordance with Section 10(a)(2) of the Federal Advisory Committee Act (Public Law 92-463), announcement is made of the forthcoming meeting of the Chief of Engineers Environmental Advisory Board (EAB). The meeting is open to the public.

DATES: The meeting will be held from 8 a.m. to 1 p.m. on Friday, November 2, 2001.

ADDRESSES: The meeting will be in room 142C, 4155 Clay Street, Vicksburg, Mississippi.

FOR FURTHER INFORMATION CONTACT: Ms. Ellen Cummings, Headquarters, U.S. Army Corps of Engineers, Washington, DC 20314-1000, (202) 761-4558.

SUPPLEMENTARY INFORMATION: The Board advises the Chief of Engineers on environmental policy, identification and resolution of environmental issues and missions, and addressing challenges, problems and opportunities in an environmentally sustainable manner. The theme of this meeting is environmental sustainability. It will include a summary report of a workshop on sustainability, discussion of the definition of sustainability and what it means for the Corps, how this relates to studies and projects such as the proposed Yazoo Backwater Pump, and future research efforts at the Engineering Research and Development Center.

Local security measures will be in place. Additionally, interested parties will be required to present two forms of photo identification in order to access the meeting room.

Dated: October 11, 2001.
Charles M. Hess,
Chief, Operations Division, Directorate of Civil Works.

[FR Doc. 01-25985 Filed 10-15-01; 8:45 am]

BILLING CODE 3710-92-P